NUCLEAR REGULATORY COMMISSION

10 CFR Parts 50 and 52

[NRC-2021-0166]

Acceptability of ASME Code, Section XI, Division 2, ‘Requirements for Reliability and Integrity Management (RIM) Programs for Nuclear Power Plants,' for Non-Light Water Reactors

AGENCY: Nuclear Regulatory Commission.

ACTION: Regulatory guide; issuance.

SUMMARY: The U.S. Nuclear Regulatory Commission (NRC) is issuing a new Regulatory Guide (RG) 1.246, “Acceptability of ASME Code, Section XI, Division 2, `Requirements for Reliability and Integrity Management (RIM) Programs for Nuclear Power Plants,' for Non-Light Water Reactors.” This RG describes an approach that is acceptable to the NRC staff for the development and implementation of a preservice inspection (PSI) and inservice inspection (ISI) program for non-light water reactors (non-LWRs). It endorses, with conditions, the 2019 Edition of the American Society of Mechanical Engineers (ASME) Boiler and Pressure Vessel Code (ASME Code), Section XI, “Rules for Inservice Inspection of Nuclear Power Plant Components,” Division 2, for non-LWR applications. This RG also describes a method that applicants can use to incorporate PSI and ISI programs into a licensing basis.

DATES: RG 1.246 is available on November 3, 2022.

ADDRESSES: Please refer to Docket ID NRC-2021-0166 when contacting the NRC about the availability of information regarding this document. You may obtain publicly available information related to this document using any of the following methods:

• Federal Rulemaking Website: Go to https://www.regulations.gov and search for Docket ID NRC-2021-0166. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8 a.m. and 4 p.m. Eastern Time (ET), Monday through Friday, except Federal holidays.

RG 1.246 and the regulatory analysis may be found in ADAMS under Accession Nos. ML22061A244 and ML21120A192, respectively.

Regulatory guides are not copyrighted, and NRC approval is not required to reproduce them.

FOR FURTHER INFORMATION CONTACT: Margaret Audrain, Office of Nuclear Reactor Regulation, telephone: 301-415-2133, email: Margaret.Audrain@nrc.gov; Stephen Philpott, Office of Nuclear Reactor Regulation, telephone: 301-415-2365, email: Stephen.Philpott@nrc.gov; and Robert Roche-Rivera, Office of Nuclear Regulatory Research, telephone: 301-415-8113, email: Robert Roche-Rivera. All are staff of the U.S. Nuclear Regulatory Commission, Washington, DC 20555-0001.

SUPPLEMENTARY INFORMATION:

I. Discussion

The NRC is issuing a new guide in the NRC's “Regulatory Guide” series. This series was developed to describe methods that are acceptable to the NRC staff for implementing specific parts of the agency's regulations, to explain techniques that the staff uses in evaluating specific issues or postulated events, and to describe information that the staff needs in its review of applications for permits and licenses.

RG 1.246 was issued with a temporary identification of Draft Regulatory Guide, DG-1383 (ADAMS Accession No. ML21120A185).

II. Additional Information

The NRC published a notice of the availability of DG-1383 in the Federal Register on September 30, 2021 (86 FR 54253) for a 45-day public comment period. The public comment period closed on November 15, 2021. Public comments on DG-1383 and the staff responses to the public comments are available under ADAMS under Accession No. ML22061A253.

III. Congressional Review Act

This RG is a rule as defined in the Congressional Review Act (5 U.S.C. 801-808). However, the Office of Management and Budget has not found it to be a major rule as defined in the Congressional Review Act.

IV. Backfitting, Forward Fitting, and Issue Finality

Issuance of RG 1.246 does not constitute backfitting as defined in section 50.109 of title 10 of the Code of Federal Regulations (10 CFR), “Backfitting,” and as described in NRC Management Directive (MD) 8.4, “Management of Backfitting, Forward Fitting, Issue Finality, and Information Requests” (ADAMS Accession No. ML18093B087); constitute forward fitting as that term is defined and described in MD 8.4; or affect the issue finality of any approval issued under 10 CFR part 52, “Licenses, Certificates, and Approvals for Nuclear Power Plants.” As explained in RG 1.246, applicants and licensees are not required to comply with the positions set forth in RG 1.246.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: October 25, 2022.
For the Nuclear Regulatory Commission.
Meraj Rahimi,
Chief, Regulatory Guide and Programs Management Branch, Division of Engineering, Office of Nuclear Regulatory Research.

[FR Doc. 2022-23572 Filed 11-2-22; 8:45 am]

BILLING CODE 7590-01-P